DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains in the possession of the Thomas Burke Memorial Washington State Museum (Burke Museum), University of Washington, Seattle, WA. The human remains were removed from Chelan County, WA.

This notice is published as part of the National Park Service's administrative responsibilities under NAGPRA, 25 U.S.C. 3003 (d)(3). The determinations in this notice are the sole responsibility of the museum, institution, or Federal agency that has control of the Native American human remains. National Park Service is not responsible for the determinations in this notice.

A detailed assessment of the human remains was made by Burke Museum professional staff in consultation with representatives of the Confederated Tribes and Bands of the Yakama Nation, Washington and Confederated Tribes of the Colville Reservation, Washington.

Sometime before 1948, human remains representing a minimum of one individual were removed from Stehekin in Chelan County, WA, by Harold Wheeler. In 1948, the human remains were loaned to the Burke Museum by Mr. Wheeler (Burke Accn. #3512). No known individual was identified. No associated funerary objects are present.

The human remains were previously determined to not be Native American. After further review based on osteological information, the preponderance of the evidence identifies the human remains as Native American.

According to early and late ethnographic documentation, the Stehekin area was occupied by the Chelan tribe and is their aboriginal land (Miller 1998; Ray 1936; Ruby and Brown 1986; and Spier 1936). Information provided during consultation by representatives of the Confederated Tribes of the Colville Reservation, Washington confirms that the Chelan tribe traditionally occupied the Stehekin area. Descendants of the Chelan Tribe are members of the Confederated Tribes of the Colville Reservation, Washington.

Officials of the Burke Museum have determined that, pursuant to 25 U.S.C. 3001 (9-10), the human remains described above represent the physical remains of one individual of Native American ancestry. Officials of the Burke Museum also have determined that, pursuant to 25 U.S.C. 3001 (2), there is a relationship of shared group identity that can be reasonably traced between the Native American human remains and the Confederated Tribes of the Colville Reservation, Washington.

Representatives of any other Indian tribe that believes itself to be culturally affiliated with the human remains should contact Dr. Peter Lape, Burke Museum, University of Washington, Box 353010, Seattle, WA 98195-3010, telephone (206) 685-2282, before May 2, 2007. Repatriation of the human remains to the Confederated Tribes of the Colville Reservation, Washington may proceed after that date if no additional claimants come forward.

The Burke Museum is responsible for notifying the Confederated Tribes and Bands of the Yakama Nation, Washington and Confederated Tribes of the Colville Reservation, Washington that this notice has been published.

Dated: March 12, 2007
Sherry Hutt,
Manager, National NAGPRA Program.

[FR Doc. E7-5978 Filed 3-30-07; 8:45 am]

BILLING CODE 4312-50-S